PRIVACY AND CIVIL LIBERTIES OVERSIGHT BOARD

[Notice-PCLOB-2015-03; Docket No. 2015-0002, Sequence No. 1]

Public Meeting on Executive Order 12333 at the National Constitution Center

AGENCY: Privacy and Civil Liberties Oversight Board.

ACTION: Notice of Public Meeting.

SUMMARY: The Privacy and Civil Liberties Oversight Board will hold a public meeting to examine the historical background, constitutional implications, and oversight of counterterrorism activities conducted under the Executive Order on United States Intelligence Activities (Executive Order 12333). The public meeting will inform the Privacy and Civil Liberties Oversight Board's oversight of and advice pertinent to such activities. Visit www.pclob.gov for a list of panelists.

DATES: The public meeting will be held on Wednesday, May 13, 2015 from 10:15 a.m. until 4:45 p.m. Eastern Standard Time (EST).

ADDRESSES: The National Constitution Center, Kirby Auditorium, 525 Arch Street, Philadelphia, Pennsylvania 19106.

FOR FURTHER INFORMATION CONTACT: Sharon Bradford Franklin, Executive Director, 202-331-1986.

SUPPLEMENTARY INFORMATION:

Agenda

10:15 a.m. Doors Open.

10:30 a.m. Opening Remarks.

10:45 a.m. Session 1: Separation of Powers and the History of E.O. 12333.

12:15 p.m. Lunch on your own.

1:15 p.m. Session 2: First and Fourth Amendment Implications of E.O. 12333 Activities: The Impact of New Technologies.

2:45 p.m. Break.

3:00 p.m. Session 3: E.O. 12333 in Practice.

4:30 p.m. Closing remarks.

Procedures for Public Observation

The public meeting is free and open to the public. Pre-registration is not required. Individuals who plan to attend and require special assistance should contact Sharon Bradford Franklin, Executive Director, 202-331-1986, at least seventy-two (72) hours prior to the meeting date.

Dated: April 23, 2015.
Eric Broxmeyer,
General Counsel, Privacy and Civil Liberties Oversight Board.

[FR Doc. 2015-09988 Filed 4-28-15; 8:45 am]

BILLING CODE 6820-B3-P